DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Boris Cheskis, Ph.D., Wyeth Pharmaceuticals: Based on the report of an investigation conducted by Wyeth Pharmaceuticals and additional analysis conducted by ORI in its oversight review, ORI found that Boris Cheskis, Ph.D., former senior scientist, Discovery Research, Women's Health, Wyeth Pharmaceuticals, engaged in research misconduct in grant applications 1 R01 DK072026-01 and 1 R01 DK072026-01A2 submitted to the National Institute of Diabetes and Digestive and Kidney Diseases (NIDDK), NIH.

Specifically, ORI found that:

• The Respondent engaged in misconduct in science, 42 CFR 50.102, in NIDDK, NIH, grant application 1 R01 DK072026-01, “MNAR Crosstalk with Steroid Receptors,” submitted to NIH on September 28, 2004, by intentionally falsifying Figures 5 and 6.

• The Respondent engaged in research misconduct, 42 CFR 93.103, in NIDDK, NIH, grant application 1 R01 DK072026-01A2, “MNAR Crosstalk with Steroid Receptors,” submitted to NIH on November 9, 2005, by intentionally falsifying Figures 6 and 9.

Dr. Cheskis' research was in an area of research (estrogen receptors and modulation of nongenomic phosphorylation cascades) that is of importance to women's health. Dr. Cheskis' team identified an adapter protein, MNAR, that coordinates interactions between certain nuclear receptors, Src and PI3K and may play important roles in regulation of cell proliferation and survival.

Both Dr. Cheskis and the U.S. Public Health Service (PHS) were desirous of concluding this matter without further expense of time and other resources. Dr. Cheskis neither admits nor denies that ORI's findings represent findings of research misconduct. The settlement is not an admission of liability on the part of the Respondent.

Dr. Cheskis has entered into a Voluntary Settlement Agreement. Dr. Cheskis has voluntarily agreed, for a period of two (2) years, beginning on March 22, 2010:

(1) To exclude himself from serving in any advisory capacity to PHS, including but not limited to service on any PHS advisory committee, board, and/or peer review committee, or as a consultant;

(2) That any institution that submits an application for PHS support for a research project on which the Respondent's participation is proposed or that uses him in any capacity on PHS-supported research, or that submits a report of PHS-funded research in which he is involved, must concurrently submit a plan for supervision of his duties to the funding agency for approval; the supervisory plan must be designed to ensure the scientific integrity of his research contribution; respondent agreed that he will not participate in any PHS-supported research until such a supervisory plan is submitted to ORI.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2010-8387 Filed 4-12-10; 8:45 am]

BILLING CODE 4150-31-P